DEPARTMENT OF ENERGY

Federal Energy Regulatory Commission

[Project No. 2727-092]

Black Bear Hydro Partners, LLC; Notice of Comment Period Extension

On November 21, 2018, the Commission issued a notice setting January 20, 2019 as the end of the formal period to file comments on the draft environmental assessment for the Ellsworth Hydroelectric Project No. 2727. Pursuant to 18 CFR 5.25(d), modified mandatory prescriptions or terms and conditions must be filed no later than 60 days following the date for filing of comments. Due to the funding lapse at certain federal agencies between December 22, 2018 and January 25, 2019, the Commission is extending the comment period for the draft environmental assessment to February 23, 2019 and the date for filing modified prescriptions, terms, and conditions to April 24, 2019.

Dated: February 8, 2019.
Kimberly D. Bose,
Secretary.

[FR Doc. 2019-02335 Filed 2-13-19; 8:45 am]

BILLING CODE 6717-01-P